DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the eleven eligible grant recipients funded in FY 2024 under the Prevention Technology Transfer Centers (PTTCs) Cooperative Agreements, Notice of Funding Opportunity (NOFO) SP-24-002. Recipients may receive up to $227,272 each for a total funding amount of approximately $2.5 million. These recipients have a project end date of September 29, 2029. The supplemental funding will be used to expand the efforts of the PTTCs to develop and deliver resources to the prevention field, allowing for a focused effort to SAMHSA prevention grant recipients.

FOR FURTHER INFORMATION CONTACT: Thia Walker, DrPH., Public Health Advisor, Substance Abuse and Mental Health Services Administration, 5600 Fishers Lane, Rockville, MD 20857, telephone 240-276-1835; email: Thia.Walker@samhsa.hhs.gov.

SUPPLEMENTARY INFORMATION:

Funding Opportunity Title: FY 2024 Prevention Technology Transfer Centers Cooperative Agreements SP-24-002.

Assistance Listing Number: 93.243.

Authority: Section 509 of the Public Health Service Act, as amended.

Justification: Eligibility for this supplemental funding is limited to the ten PTTC Regional Centers and the PTTC National Coordinating Center funded under the PTTC Cooperative Agreements funding announcement SP-24-002. The PTTCs will continue providing training/technical assistance services and quality improvement activities to the substance misuse prevention workforce including professionals/pre-professionals, organizations, and others in the prevention community. This supplemental funding will allow PTTCs to expand efforts to develop and deliver resources to the prevention field, allowing for a focused effort to SAMHSA prevention grant recipients. The PTTCs will continue working directly with SAMHSA and across the PTTC Network on activities aimed at improving implementation and delivery of effective substance misuse prevention interventions. The PTTCs will continue providing prevention skills trainings and technical assistance services that are: tailored to meet the needs of recipients and the prevention field, based in prevention science, and use evidence-based and promising practices. The PTTC National Coordinating Center (NCC) will continue serving as the focal point and providing leadership, infrastructure, and support for the ten PTTC Regional Centers.

This is not a formal request for application. Assistance will only be provided to the eleven Prevention Technology Transfer Centers Cooperative Agreements grant recipients funded in FY 2024 under the Prevention Technology Transfer Centers Cooperative Agreements SP-24-002.

Dated: September 15, 2025.
Ann Ferrero,
Public Health Analyst.

[FR Doc. 2025-18028 Filed 9-17-25; 8:45 am]

BILLING CODE 4162-20-P